DEPARTMENT OF HEALTH AND HUMAN SERVICES

Administration for Children and Families

Award of Three Single-Source Expansion Supplements to The University of Colorado Health Sciences Center in Aurora, CO, The University of Massachusetts (Institute for Community Inclusion) in Boston, MA, and The University of Minnesota (The Research and Training Center) in Minneapolis, MN

AGENCY: Administration on Developmental Disabilities, ACF, HHS.

ACTION: Notice.

CFDA Number: 93.631.

Statutory Authority: This award will be made pursuant to Section 161 of the Developmental Disabilities Assistance and Bill of Rights Act of 2000 (42 U.S.C. 15081-15083).

Amount of Award: $200,000 per award.

Project Period: 9/30/2010-9/29/2012.

SUMMARY: This notice announces that the Administration for Children and Families (ACF), Administration on Developmental Disabilities (ADD) has awarded three single-source expansion supplements for data collection, analyses, and reporting.

The following projects will be funded:

The University of Colorado Health Sciences Center, Aurora, CO. This cooperative agreement will allow for data collection, analysis and reporting on spending and services for individuals with intellectual and developmental disabilities, including disaggregation of data related to specific demographic groups. The project will analyze and report on trends in utilization of and spending for institutional services and home and community-based services. Project staff will also participate in collaborative efforts with ADD and other data collection projects to review and report on unmet needs in data collection, analyses, and reporting activities that would promote the self-determination, independence, productivity, and integration and inclusion of people with intellectual and developmental disabilities in all facets of community life.

The University of Massachusetts (Institute for Community Inclusion), Boston, MA. This cooperative agreement will provide for data collection and analyses related to the effectiveness of State agencies in promoting community integrated employment for individuals with intellectual and developmental disabilities. The project will collect data, analyze, and report on the employment and economic status of individuals with intellectual and developmental disabilities including disaggregation of data related to specific demographic groups. The project will also make recommendations related to the standardization of data and reporting of employment outcomes. Project staff will also participate in collaborative efforts with ADD and other data collection projects to review and report on unmet needs in data collection, analyses, and reporting activities that would promote the self-determination, independence, productivity, and integration and inclusion of people with intellectual and developmental disabilities in all facets of community life.

The University of Minnesota (The Research and Training Center), Minneapolis, MN. This cooperative agreement will provide for data collection, analyses, and reporting of national and State statistics on public and private residential services for individuals with intellectual and developmental disabilities, including disaggregation of data related to specific demographic groups. The project will conduct analyses that describe the movement of individuals with intellectual and developmental disabilities from institutional to community settings. Project staff will also participate in collaborative efforts with ADD and other data collection projects to review and report on unmet needs in data collection, analyses, and reporting activities that would promote the self-determination, independence, productivity, and integration and inclusion of people with intellectual and developmental disabilities in all facets of community life.

Contact for Further Information: Ophelia McLain, Supervisory Program Specialist, Administration on Developmental Disabilities, 370 L'Enfant Promenade, SW., Mail Stop: HHH-405D, Washington, DC 20447. Telephone: 202-690-7025 E-mail: ophelia.mclain@acf.hhs.gov.

Dated: October 14, 2010.
Sharon Lewis,
Commissioner, Administration on Developmental Disabilities.

[FR Doc. 2010-26933 Filed 10-22-10; 8:45 am]

BILLING CODE P